DEPARTMENT OF ENERGY

Federal Energy Regulatory Commission

[Docket No. CP23-3-000]

Tres Palacios Gas Storage LLC; Notice of Schedule for the Preparation of an Environmental Assessment for the Tres Palacios Cavern 4 Expansion Project

On October 12, 2022, Tres Palacios Gas Storage LLC (Tres Palacios) filed an application in Docket No. CP23-3-000 requesting a Certificate of Public Convenience and Necessity and Authorization pursuant to sections 7(c) and 7(b) of the Natural Gas Act to construct, operate, and abandon certain natural gas storage facilities. The proposed project is known as the Tres Palacios Cavern 4 Expansion Project (Project), and would add approximately 6.5 billion cubic feet (Bcf) of new working gas capacity and 3.5 Bcf of base gas capacity at its existing natural gas storage facility in Matagorda County, Texas.

On October 26, 2022, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—April 14, 2023

90-day Federal Authorization Decision Deadline ²—July 13, 2023

² The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would consist of the following facilities and activities, all in Matagorda County, Texas:

• conversion of an existing third-party brine production well (Trull 11) into a natural gas storage cavern (Cavern 4);

• development of the Trull 11 well pad site for Cavern 4 (Cavern 4 Well Pad);

• construction of a 0.6-mile-long, 16-inch-diameter pipeline (New Cavern 4 Pipeline) connecting Cavern 4 to the existing certificated facilities at the Storage Facility;

• abandonment in place of a 15,300 horsepower electric-motor driven centrifugal compressor unit;

• installation of a new 5,500 horsepower electric-motor driven reciprocating compressor unit;

• addition of a new 2.5 million British thermal units per hour dehydration unit;

• construction of various related facilities, including a new permanent access road for the Cavern 4 Well Pad; and

• non-jurisdictional facilities consisting of a new electric service line to the Cavern 4 Well Pad and a new fiber optic line from the Cavern 4 Well Pad to the Storage Facility.

Background

On November 23, 2022, the Commission issued a Notice of Scoping Period Requesting Comments on Environmental Issues for the Proposed Tres Palacios Cavern 4 Expansion Project. The Notice of Scoping was sent to affected landowners; Federal, State, and local government agencies; elected officials; environmental and public interest groups; Native American tribes; other interested parties; and local libraries and newspapers. In response to the Notice of Scoping, the Commission received comments from the Texas Parks & Wildlife Department. The primary issues raised by the Department concerned impacts of the Project on wildlife and wildlife habitat; bird nesting areas; Federal and state-listed rare, threatened, and endangered species and their habitat; and control of the spread of non-native plant species. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-3), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 6, 2023.
Kimberly D. Bose,
Secretary.

[FR Doc. 2023-00549 Filed 1-12-23; 8:45 am]

BILLING CODE 6717-01-P